DEPARTMENT OF HEALTH AND HUMAN SERVICES

Health Resources and Services Administration

Agency Information Collection Activities: Submission to OMB for Review and Approval; Public Comment Request

ACTION: Notice.

SUMMARY: In compliance with section 3506(c)(2)(A) of the Paperwork Reduction Act of 1995 (44 U.S.C. Chapter 35), the Health Resources and Services Administration (HRSA) will submit an Information Collection Request (ICR) to the Office of Management and Budget (OMB). Comments submitted during the first public review of this ICR will be provided to OMB. OMB will accept further comments from the public during the review and approval period. To request a copy of the clearance requests submitted to OMB for review, email paperwork@hrsa.gov or call the HRSA Reports Clearance Office at (301) 443-1984.

Information Collection Request Title: Health Center Controlled Networks (OMB No. 0915-xxxx) NEW

Abstract: One goal of the Health Resources and Services Administration (HRSA) is to ensure that all Health Center Program grantees effectively implement health information technology (HIT) systems that enable all providers to become meaningful users of HIT, including Electronic Health Records (EHR), and use those systems to increase access to care, improve quality of care, and reduce the costs of care delivered. The Health Center Controlled Network (HCCN) program serves as a major component of HRSA's HIT initiative to support these goals. The HCCN model focuses on the integration of certain functions and the sharing of skills, resources, and data to improve health center operations and care provision, and to generate efficiencies and economies of scale. Through this grant, HCCNs will provide support for the adoption, implementation, and meaningful use of HIT to improve the quality of care provided by existing Health Center Program grantees (i.e., Section 330 funded health centers) by engaging in the following program components:

• Adoption and Implementation: Assist participating health centers with effectively adopting and implementing certified EHR technology.

• Meaningful Use: Support participating health centers in meeting Meaningful Use requirements and accessing incentive payments under the Medicare and Medicaid EHR Incentive Programs.

• Quality Improvement (QI): Advance participating health centers' QI initiatives to improve clinical and operational quality, including Patient Centered Medical Home (PCMH) recognition.

HRSA plans to collect and evaluate network outcome measures. HRSA also plans to require that HCCNs report such measures to HRSA in annual work plan updates as part of their annual, non-competing continuation progress reports through an electronic reporting system. The work plan updates will include information on grantees' plans and progress on the following:

• Adoption and Implementation of HIT (including EHR);

• Attainment of Meaningful Use Requirements; and

• QI Measures (e.g., Healthy People 2020 clinical quality measures, PCMH recognition status, etc.).

The annual, non-competing continuation progress reports will describe each grantee's progress in achieving key activity goals such as quality improvement, data access and exchange, efficiency and effectiveness of network services, and the ability to track and monitor patient outcomes, as well as emerging needs, challenges and barriers encountered, customer satisfaction, and plans to meet goals for the next year. Grantees will submit their work plan updates and annual, non-competing continuation progress report each fiscal year of the grant; the submission and subsequent HRSA approval of each report triggers the budget period renewal and release of each subsequent year of funding. The estimated total number of burden hours is 1662.

Burden Statement: Burden in this context means the time expended by persons to generate, maintain, retain, disclose, or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

The annual estimate of burden is as follows:

Form name | Number of respondents | Responses per respondent | Total responses | Hours per response | Total burden hours
Work Plan Update | 30 | 1 | 30 | 10.9 | 327
Annual Progress Report/Interim Evaluation Progress Report | 30 | 1 | 30 | 44.5 | 1,335
Total | 30 |  |  |  | 1,662

ADDRESSES: Submit your comments to the desk officer for HRSA either by email to OIRA_submission@omb.eop.gov or by fax to 202-395-5806. Please direct all correspondence to the “attention of the desk officer for HRSA.”

Deadline: Comments on this ICR should be received within 30 days of this notice.

Dated: November 29, 2012.
Bahar Niakan,
Director, Division of Policy and Information Coordination.

[FR Doc. 2012-29496 Filed 12-5-12; 8:45 am]

BILLING CODE 4165-15-P